DEPARTMENT OF COMMERCE

National Oceanic and Atmospheric Administration

RIN 0648-XF203

Determination of Overfishing or an Overfished Condition

AGENCY: National Marine Fisheries Service (NMFS), National Oceanic and Atmospheric Administration (NOAA), Commerce.

ACTION: Notice.

SUMMARY: This action serves as a notice that NMFS, on behalf of the Secretary of Commerce (Secretary), has found that the following stocks are subject to overfishing or overfished: South Atlantic golden tilefish and the Western and Central Pacific stock of Pacific bigeye tuna are subject to overfishing; South Atlantic blueline tilefish is still subject to overfishing; and Pacific bluefin tuna in the North Pacific Ocean and South Atlantic red snapper are still both overfished and subject to overfishing. NMFS, on behalf of the Secretary, notifies the appropriate fishery management council (Council) whenever it determines that overfishing is occurring, a stock is in an overfished condition or a stock is approaching an overfished condition.

FOR FURTHER INFORMATION CONTACT: Regina Spallone, (301) 427-8568.

SUPPLEMENTARY INFORMATION: Pursuant to section 304(e)(2) of the Magnuson-Stevens Fishery Conservation and Management Act (Magnuson-Stevens Act), 16 U.S.C. 1854(e)(2), and implementing regulations at 50 CFR 600.310(e)(2) and (j)(1), NMFS, on behalf of the Secretary, must notify Councils, and publish in the Federal Register, whenever it determines that a stock or stock complex is subject to overfishing, overfished, or approaching an overfished condition.

NMFS has determined that South Atlantic golden tilefish is subject to overfishing. This determination is based on the most recent stock assessment (SEDAR 25 Update), finalized in 2016, which supports a finding of subject to overfishing because estimates of fishing mortality (F) are above the maximum fishing mortality threshold, or MFMT. The South Atlantic Fishery Management Council has been informed that they must take action to end overfishing immediately on this stock.

NMFS has determined that the Western and Central Pacific (WCP) stock of Pacific bigeye tuna is subject to overfishing. This determination is based on a 2014 stock assessment update conducted by the Secretariat of the Pacific Community, and accepted by the Western and Central Pacific Fisheries Commission. NMFS has determined that section 304(i) of the Magnuson-Stevens Fishery Conservation and Management Act (Magnuson-Stevens Act) applies because (1) the overfishing of the WCP stock of Pacific bigeye tuna is due largely to excessive international fishing pressure, and (2) the applicable regional fishery management organizations have inadequate measures in place to correct the problem. NMFS has informed the Western Pacific Fishery Management Council and the Pacific Fishery Management Council of their obligations for international and domestic management under Magnuson-Stevens Act sections 304(i) and 304(i)(2) to address international and domestic impacts, respectively. The Councils must develop recommendations for domestic regulations to address the relative impact of the domestic fishing fleet on the stock, and develop recommendations to the Secretary of State and Congress for international actions to end overfishing on the WCP stock of bigeye tuna.

NMFS has determined that South Atlantic blueline tilefish is still subject to overfishing. A 2014 stock assessment determined that the stock was subject to overfishing (79 FR 28686, May 19, 2014). This stock was not assessed in 2016, so landings were compared to the overfishing level (OFL). Final landings in 2015 exceeded the OFL for this stock, which supports a determination of subject to overfishing. NMFS continues to work with the South Atlantic Fishery Management Council to end overfishing.

In addition, NMFS has determined that South Atlantic red snapper continues to be subject to overfishing and is in an overfished condition. A 2010 assessment determined that this stock was subject to overfishing and in an overfished condition. That assessment found that estimates of F were above the MFMT and the stock size was less than the minimum stock size threshold, or MSST. This latest determination is based on the most recent stock assessment (SEDAR 41), finalized in 2016, which provides no basis to change the determination that the stock is subject to overfishing and is overfished. NMFS continues to work with the South Atlantic Fishery Management Council to end overfishing and rebuild this stock.

Finally, NMFS has determined that Pacific bluefin tuna in the North Pacific Ocean continues to be subject to overfishing and is in an overfished condition. A 2014 assessment determined that this stock was subject to overfishing and in an overfished condition (80 FR 12621, March 10, 2015). This latest determination is based on a 2016 assessment conducted by the International Scientific Committee for Tuna and Tuna-like Species in the North Pacific Ocean, in conjunction with NOAA scientists.

NMFS has determined that section 304(i) of the Magnuson-Stevens Act applies because (1) the overfishing and overfished condition of Pacific bluefin tuna in the North Pacific Ocean is due largely to excessive international fishing pressure, and (2) there are no management measures (or efficiency measures) to end overfishing under an international agreement to which the United States is a party. NMFS has informed the Western Pacific Fishery Management Council and the Pacific Fishery Management Council of their obligations for international and domestic management under Magnuson-Stevens Act sections 304(i) and 304(i)(2) to address international and domestic impacts, respectively. The Councils must develop recommendations for domestic regulations to address the relative impact of the domestic fishing fleet on the stock, and develop recommendations to the Secretary of State and Congress for international actions to end overfishing and rebuild the Pacific bluefin tuna in the North Pacific Ocean.

Dated: April 14, 2017.
Karen H. Abrams,
Acting Deputy Director, Office of Sustainable Fisheries, National Marine Fisheries Service.

[FR Doc. 2017-07923 Filed 4-18-17; 8:45 am]

BILLING CODE 3510-22-P